DEPARTMENT OF COMMERCE

International Trade Administration

[A-475-826]

Certain Cut-to-Length Carbon-Quality Steel Plate Products From Italy: Extension of Time Limit for Preliminary Results of Antidumping Duty Administrative Review

AGENCY: Import Administration, International Trade Administration, Department of Commerce.

DATES: Effective Date: October 16, 2009.

FOR FURTHER INFORMATION CONTACT: Dmitry Vladimirov, AD/CVD Operations, Office 5, Import Administration, International Trade Administration, U.S. Department of Commerce, 14th Street and Constitution Avenue, NW., Washington, DC 20230; telephone: (202) 482-0665.

Background

On February 10, 2000, the Department of Commerce (the Department) published an antidumping duty order on certain cut-to-length carbon-quality steel plate products from Italy. See Notice of Amendment of Final Determinations of Sales at Less Than Fair Value and Antidumping Duty Orders: Certain Cut-To-Length Carbon-Quality Steel Plate Products From France, India, Indonesia, Italy, Japan and the Republic of Korea, 65 FR 6585 (February 10, 2000). We received a timely request for review from Evraz Palini Bertoli S.p.A. (Palini), an Italian producer of the subject merchandise. On March 24, 2009, the Department published a notice of initiation of an administrative review of the antidumping duty order on certain cut-to-length carbon-quality steel plate products from Italy with respect to Palini for the period February 1, 2008, through January 31, 2009. See Initiation of Antidumping and Countervailing Duty Administrative Reviews and Requests for Revocation in Part, 74 FR 12310 (March 24, 2009). The preliminary results of this administrative review are currently due no later than October 31, 2009.

Extension of Time Limit for Preliminary Results

Section 751(a)(3)(A) of the Tariff Act of 1930, as amended (the Act), requires the Department to make a preliminary determination within 245 days after the last day of the anniversary month of an order for which a review is requested and a final determination within 120 days after the date on which the preliminary determination is published in the Federal Register. If it is not practicable to complete the review within these time periods, section 751(a)(3)(A) of the Act allows the Department to extend the time limit for the preliminary determination to a maximum of 365 days after the last day of the anniversary month.

We determine that it is not practicable to complete the preliminary results of this review by the current deadline of October 31, 2009. During the course of the review, Palini has requested several extensions of time to file its questionnaire and supplemental questionnaire responses, which we granted in whole or in part. Given the length of time that Palini requested to submit information we requested and the amount of time we granted Palini to respond to our questionnaires, we require additional time to analyze Palini's responses prior to issuing the preliminary results. Therefore, in accordance with section 751(a)(3)(A) of the Act and 19 CFR 351.213(h)(2), we are extending the time period for issuing the preliminary results of this review by 86 days to January 25, 2010.

This notice is published in accordance with sections 751(a)(3)(A) and 777(i)(1) of the Act.

Dated: October 8, 2009.
John M. Andersen,
Acting Deputy Assistant Secretary for Antidumping and Countervailing Duty Operations.

[FR Doc. E9-24959 Filed 10-15-09; 8:45 am]

BILLING CODE 3510-DS-P